DEPARTMENT OF TRANSPORTATION

Federal Aviation Administration

Notice of Intent To Release Airport Property From Quitclaim Deed; Venice Municipal Airport, Venice, FL

AGENCY: Federal Aviation Administration (FAA), DOT.

ACTION: Request for public comment.

SUMMARY: The FAA hereby provides notice of intent to release approximately 1.166 acres of airport property at Venice Municipal Airport, Venice, FL, from the conditions, reservations, and restrictions as contained in a Quitclaim Deed agreement between the FAA and the City of Venice, FL, dated June 10, 1947. The release of property will allow the City of Venice to dispose of the property for other than aeronautical purposes. The property is located at 1600 Harbor Drive South. The parcel is currently designated as non-aeronautical land use. The property will be released of its federal obligations for commercial land use. The fair market value of this parcel has been determined to be $2,200,000.

DATES: Comments are due on or before August 20, 2014.

ADDRESSES: Documents are available for review at Venice Municipal Airport, 150 Airport Ave. E, Venice FL 34285; and the FAA Airports District Office, 5950 Hazeltine National Drive, Suite 400, Orlando, FL 32822. Written comments on the Sponsor's request must be delivered or mailed to: Marisol C. Elliott, Program Manager, Orlando Airports District Office, 5950 Hazeltine National Drive, Suite 400, Orlando, FL 32822-5024. Documents reflecting the Sponsor's request are available for inspection by appointment only at Venice Municipal Airport and by contacting the FAA at the address listed above.

FOR FURTHER INFORMATION CONTACT: Marisol C. Elliott, Program Manager, Orlando Airports District Office, 5950 Hazeltine National Drive, Suite 400, Orlando, FL 32822-5024.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

Issued in Orlando, Florida, on July 15, 2014.
Bart Vernace,
Manager, Orlando Airports District Office, Southern Region.

[FR Doc. 2014-17113 Filed 7-18-14; 8:45 a.m.]

BILLING CODE 4910-13-P